DEPARTMENT OF LABOR

Employment and Training Administration

[TA-W-70, 975A]

B&C Corporation, JR Engineering Division, Including B&C Distribution Center, Including On-Site Leased Workers From B&C Services, Inc., Barberton, OH; Amended Certification Regarding Eligibility To Apply for Worker Adjustment Assistance

In accordance with Section 223 of the Trade Act of 1974, as amended (“Act”), 19 U.S.C. 2273, the Department of Labor issued a Certification of Eligibility to Apply for Worker Adjustment Assistance on October 2, 2009, applicable to workers of B&C Corporation, JR Engineering Division, including on-site leased workers from B&C Services, Inc., Barberton, Ohio. The notice was published in the Federal Register on November 17, 2009 (74 FR 59253).

At the request of the State agency and a petitioner, the Department reviewed the certification for workers of the subject firm. The workers provided wheel machining and polishing services.

New information received from the petitioner shows that worker separations occurred during the relevant time period at the B&C Distribution Center, Inc. of the B&C Corporation, JR Engineering Division, Barberton, Ohio. The B&C Distribution Center provides distribution and logistical support for B&C Corporation.

Accordingly, the Department is amending this certification to include workers of the B&C Distribution Center, Barberton, Ohio location of B&C Corporation, JR Engineering Division.

The intent of the Department's certification is to include all workers of the subject firm who were adversely affected by increased imports of wheel machining and polishing services.

The amended notice applicable to TA-W-70,975 and TA-W-70,975A are hereby issued as follows:

All workers of B&C Corporation, JR Wheel Division, including on-site leased workers from B&C Services, Norton, Ohio (TA-W-70,975) and B&C Corporation, JR Engineering Division, including the B&C Distribution Center, Inc., including on-site leased workers from B&C Services, Inc., Barberton, Ohio (TA-W-70,975A), who became totally or partially separated from employment on or after June 2, 2008, through October 2, 2011, and all workers in the group threatened with total or partial separation from employment on date of certification through two years from the date of certification, are eligible to apply for adjustment assistance under Chapter 2 of Title II of the Trade Act of 1974, as amended.

Signed in Washington, DC, this 23rd day of March 2010.
Elliott S. Kushner,
Certifying Officer, Division of Trade Adjustment Assistance.

[FR Doc. 2010-7326 Filed 3-31-10; 8:45 am]

BILLING CODE 4510-FN-P